Title 3—

The President

Proclamation 8916 of December 14, 2012

Bill of Rights Day, 2012

By the President of the United States of America

A Proclamation

When President Franklin D. Roosevelt recognized the 150th anniversary of our Nation's Bill of Rights, he called it the “great American charter of personal liberty and human dignity.” He understood that the freedoms it protects—among them speech, worship, assembly, and due process—are freedoms that reinforce one another. They form the bedrock of the American promise, and we cannot fully realize one without realizing them all. Today, as we work to reinforce human rights at home and around the globe, we reaffirm our belief that government of the people, by the people, and for the people inspires the stability and individual opportunity that serve as a basis for peace in our world.

In adopting the 10 Constitutional Amendments that make up the Bill of Rights, the Framers sought to balance the power and security of a new Federal Government with a guarantee of our most basic civil liberties. They acted on a conviction that rings as true today as it did two centuries ago: Unlocking a nation's potential depends on empowering all its people. The Framers also called upon posterity to carry on their work—to keep our country moving forward and bring us ever closer to a more perfect Union.

Generations of patriots have taken up that challenge. They have been defenders who stood watch at freedom's frontier, marchers who broke down barriers to full equality, dreamers who pushed America from what it was toward what it ought to be. Now it falls to us to build on their work. On Bill of Rights Day, we celebrate the liberties secured by our forebears, pay tribute to all who have fought to protect and expand our civil rights, and rededicate ourselves to driving a new century of American progress.

NOW, THEREFORE, I, BARACK OBAMA, President of the United States of America, by virtue of the authority vested in me by the Constitution and the laws of the United States, do hereby proclaim December 15, 2012, as Bill of Rights Day. I call upon the people of the United States to mark these observances with appropriate ceremonies and activities.

IN WITNESS WHEREOF, I have hereunto set my hand this fourteenth day of December, in the year of our Lord two thousand twelve, and of the Independence of the United States of America the two hundred and thirty-seventh.

[FR Doc. 2012-30740

Filed 12-18-12; 11:15 am]

Billing code 3295-F3